SOCIAL SECURITY ADMINISTRATION

Agency Information Collection Activities: Proposed Request and Comment Request

The Social Security Administration (SSA) publishes a list of information collection packages that will require clearance by the Office of Management and Budget (OMB) in compliance with Public Law 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the SSA Reports Clearance Officer and to the OMB Desk Officer at the following addresses:

(OMB), Attn: Desk Officer for SSA, New Executive Office Building, Room 10230, 725 17th St., NW, Washington, D.C. 20503

(SSA), Social Security Administration, DCFAM, Attn: Frederick W. Brickenkamp, 1-A-21 Operations Bldg., 6401 Security Blvd., Baltimore, MD 21235

I. The information collections listed below will be submitted to OMB within 60 days from the date of this notice. Therefore, your comments should be submitted to SSA within 60 days from the date of this publication. You can obtain copies of the collection instruments by calling the SSA Reports Clearance Officer at 410-965-4145, or by writing to him at the address listed above.

1. Notice Regarding Substitution of Party Upon Death of Claimant—0960-0288. When a claimant for Social Security or Supplemental Security Income benefits dies while a request for a hearing is pending, the hearing will be dismissed unless an eligible individual makes a written request to SSA showing that he or she would be adversely affected by the dismissal of the deceased's claim. An individual may satisfy this requirement by completing an HA-539. SSA uses the information collected to document the individual's request to be made a substitute party for a deceased claimant, and to make a decision on whom, if anyone, should become a substitute party for the deceased. The respondents are individuals requesting hearings on behalf of deceased claimants for Social Security benefits.

Number of Respondents: 10,548.

Frequency of Response: 1.

Average Burden Per Response: 5 minutes.

Estimated Annual Burden: 879 hours.

2. Report by Former Representative Payee—0960-0112. When a State mental institution or agency terminates its representative payee services, SSA requires a closeout report on funds held on behalf of Social Security beneficiaries. SSA uses the information, which is collected on form SSA-625, to determine the proper disposition of any conserved funds held by the representative payee. The respondents are State mental institutions or agencies that served as representative payees for Social Security beneficiaries.

Number of Respondents: 8,000.

Frequency of Response: 1.

Average Burden Per Response: 15 minutes.

Estimated Annual Burden: 2,000.

3. State Agency Report of Obligations for SSA Disability Programs and Addendum, SSA-4513; Time Report of Personnel Services for Disability Determination Services, SSA-4514; and State Agency Schedule of Equipment Purchased for SSA Disability Programs, SSA-871—0960-0421.

SSA uses the information collected on forms SSA-4513 and 4514 to conduct a detailed analysis and evaluation of the costs incurred by the State Disability Determination Services (DDSs) in making the disability determination for SSA. The data is also used to determine funding levels for each DDS. SSA uses the information collected on form SSA-871 to budget and account for expenditures of funds for equipment purchases by the State DDSs that administer the disability determination program. The respondents are DDSs that have the responsibility for making disability determinations for SSA.

| Respondents | Frequency of response | Average burden per response (minutes) | Estimated annual burden (hours)
SSA-4513 | 54 | 4 | 90 | 324
SSA-4514 | 54 | 4 | 90 | 324
SSA-871 | 54 | 4 | 30 | 108
Total burden |  |  |  | 756

4. Request for Social Security Statement—0960-0466. Form SSA-7004 is used by members of the public to request information about their Social Security earning records and to get an estimate of their potential benefits. SSA provides information, in response to the request, from the individual's personal Social Security record. The respondents are Social Security numberholders who have covered earnings on record.

Number of Respondents: 3,000,000.

Frequency of Response: 1.

Average Burden Per Response: 5 minutes.

Estimated Annual Burden: 250,000 hours.

5. Certificate of Support—0960-0001. The information collected by form SSA-760-F4 is used to determine whether the deceased worker provided one-half support required for entitlement to parent's or spouse's benefits. The information will also be used to determine whether the Government pension offset would apply to the applicant's benefit payments. The respondents are parents of deceased workers or spouses who may be subject to Government pension offset.

Number of Respondents: 18,000.

Frequency of Response: 1.

Average Burden Per Response: 15 minutes.

Estimated Annual Burden: 4,500 hours.

II. The information collections listed below have been submitted to OMB for clearance. Your comments on the information collections would be most useful if received by OMB and SSA within 30 days from the date of this publication. You can obtain a copy of the OMB clearance packages by calling the SSA Reports Clearance Officer on (410) 965-4145, or by writing to him at the address listed above.

1. Internet Request for Replacement SSA-1099/SSA-1042S, Social Security Benefits Statement—0960-0583. The information requested by the Social Security Administration (SSA) via the Internet will be used to verify identity and to provide replacement copies of Forms SSA-1099/SSA-1042, which are needed to prepare Federal tax returns. This Internet option to request a replacement SSA-1099/SSA-1042S will eliminate the need for a phone call to a teleservice center or a visit to a field office. The respondents are beneficiaries who request a replacement SSA-1099/1042S via the Internet.

SSA is publishing this notice because the previous notices (Vol. 65, No. 197, page 60492, October 11, 2000; Vol. 65, No. 237, page 77061, December 8, 2000) contained incorrect information on the public reporting burden. Following is the corrected public reporting burden:

Number of Respondents: 21,000.

Frequency of Response: 1.

Average Burden Per Response: 1.5 minutes.

Estimated Average Burden: 525 hours.

2. Blood Donor Locator Service—0960-0501. Regulation 20 CFR 401.200 requires that participating State agencies provide the Social Security Administration (SSA) Blood Donor Locator Service (BDLS) specific information on blood donors who have tested positive for Human Immunodeficiency Virus (HIV). SSA uses the information to identify the donor, and locate the donor's address in SSA records for the purpose of notifying the states and to assure that states meet regulatory requirements to qualify for using the BDLS. SSA will retain no record of the request or the information after processing has been completed. The respondents are participating State agencies acting on behalf of authorized blood donor facilities.

Number of Respondents: 10.

Frequency of Response: 5.

Average Burden Per Response: 15 minutes.

Estimated Annual Burden: 12.5 hours.

Dated: January 18, 2001.
Frederick W. Brickenkamp,
Reports Clearance Officer.

[FR Doc. 01-2150 Filed 1-23-01; 8:45 am]

BILLING CODE 4191-02-U